DEPARTMENT OF JUSTICE

Notice of Lodging of Consent Decree Under the Comprehensive Environmental Response, Compensation and Liability Act (“CERCLA”)

Pursuant to 28 CFR 50.7, notice is hereby given that on November 12, 2003, a proposed Consent Decree between the United States and Paul Sauget was lodged with the District Court for the Southern district of Illinois, in U.S. v. Pharmacia Corporation, et al. (Civil No. 99-63-GPM).

The United States' Second Amended Complaint in this action asserts that Paul Sauget is jointly and severally liable under Section 107(a)(2) of CERCLA, 42 U.S.C. 9607(a)(2), for response costs that have been or will be incurred by the United States due to the release or threatened release of hazardous substances from several landfills that were operated by Paul Sauget at the Sauget Area 1 Superfund Site located in Sauget and Cahokia, Illinois.

Under the proposed Consent Decree, Paul Sauget will (1) stipulate to a judgment of $9.2 million for past and future response costs; (2) pay to EPA $60,000 which represents his ability to pay the judgment entered against him; and (3) pursue in good faith and to final judgment or settlement, any cause of action that has been or may be asserted against any insurance carrier for indemnification of Paul Sauget's stipulated liability to the United States.

The Department of Justice will receive for a period of thirty (30) days from the date of this publication comments relating to the proposed Consent Decree. Comments should be addressed to the Assistant Attorney General, Environment and Natural Resources Division, P.O. Box 7611, U.S. Department of Justice, Washington, DC 20044-7611, and should refer to United States v. Pharmacia Corporation, et al., Civ. No. 99-63-GPM (DOJ Ref. No. 90-11-2-06089).

The proposed Consent Decree may be examined at the Office of the United States Attorney, Southern District of Illinois, Suite 300 Fairview Heights, Illinois, 62208; and at EPA Region 5, 77 W. Jackson Blvd., Chicago, Illinois 60604 (contact Thomas Martin, Esq. (312) 886-4273). During the public comment period, the proposed Consent Decree may also be examined on the following Department of Justice Web site, http://www.usdoj.gov/enrd/open.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please refer to United States v. Pharmacia Corporation, et al., Civ. No. 99-63-GPM (DOJ Ref. No. 90-11-2-06089), and enclose a check in the amount of $4.50 (25 cents per page reproduction cost) payable to the U.S. Treasury.

William D. Brighton,
Assistant Chief, Environmental Enforcement Section, Environment & Natural Resources Division.

[FR Doc. 03-30133 Filed 12-2-03; 8:45 am]

BILLING CODE 4410-15-M